DEPARTMENT OF ENERGY

Federal Regulatory Commission

[Docket No. RP-503-001]

Crossroads Pipeline Company; Notice of Proposed Changes in FERC Gas Tariff

September 7, 2000.

Take notice that on August 31, 2000, Crossroads Pipeline Company (Crossroads) tendered for filing as part of its FERC Gas Tariff, original Volume No. 1 the following revised tariff sheets to be effective March 27, 2000:

Substitute Sixth Revised Sheet No. 6

Crossroads indicated that the purpose of the filing is to correct a typographical error in one of the revised tariff sheets filed by Crossroads on August 21, 2000 to comply with the requirements of Order Nos. 637 and 637-A with respect to the revised rules governing capacity releases.

Any person desiring to be heard or to protest this filing should file a protest with the Federal Energy Regulatory Commission, 888 First Street, NE., Washington, DC 20426, in accordance with Sections 385.211 of the Commission's Rules and Regulations. All such protests must be filed as provided in Section 154.210 of the Commission's Regulations. Protests will be considered by the Commission in determining the appropriate action to he taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-23448 Filed 9-12-00; 8:45 am]

BILLING CODE 6717-01-M